DEPARTMENT OF JUSTICE

28 CFR Part 202

[Docket No. NSD 104]

RIN 1124-AA01

Pertaining To Preventing Access to U.S. Sensitive Personal Data and Government-Related Data by Countries of Concern or Covered Persons

AGENCY: National Security Division, Department of Justice.

ACTION: Correcting amendment.

SUMMARY: On January 8, 2025, the Department of Justice published a final rule, prohibiting and restricting certain data transactions with certain countries or persons. That document incorrectly listed a cross-reference. This document corrects the final rule.

DATES: Effective April 18, 2025.

FOR FURTHER INFORMATION CONTACT: Email (preferred): NSD.FIRS.datasecurity@usdoj.gov. Otherwise, please contact: Lee Licata, Deputy Chief for National Security Data Risks, Foreign Investment Review Section, National Security Division, U.S. Department of Justice, 175 N Street NE, Washington, DC 20002; Telephone: 202-514-8648.

SUPPLEMENTARY INFORMATION: In FR Doc. 2024-31486 (90 FR 1636) appearing on page 1636 in the Federal Register of January 8, 2025, an incorrect cross-reference was given on page 1719. This document corrects that error.

List of Subjects in 28 CFR Part 202

Military personnel, National security, Personally identifiable information, Privacy, Reporting and recordkeeping requirements, Security measures.

Accordingly, 28 CFR part 202 is corrected by making the following correcting amendment:

PART 202—ACCESS TO U.S. SENSITIVE PERSONAL DATA AND GOVERNMENT-RELATED DATA BY COUNTRIES OF CONCERN OR COVERED PERSONS

1. The authority citation for part 202 continues to read as follows:

Authority: 50 U.S.C. 1701 et seq.; 50 U.S.C. 1601 et seq.; E.O. 14117, 89 FR 15421.

§ 202.401 [Amended]

2. Amend § 202.401 in paragraph (a) by removing the phrase “as defined by § 202.408” and adding in its place “as defined by § 202.248”.

Dated: April 7, 2025.
Sue J. Bai,
Supervisory Official, National Security Division, U.S. Department of Justice.

[FR Doc. 2025-06477 Filed 4-17-25; 8:45 am]

BILLING CODE 4410-PF-P